DEPARTMENT OF EDUCATION

Office of the Chief Financial Officer

Electronic Submission of Grant Applications Through Grants.Gov and e-Application

AGENCY: Office of the Chief Financial Officer, Department of Education.

ACTION: Notice of new policies and procedural requirements for the electronic submission of grant applications.

SUMMARY: The Chief Financial Officer of the Department of Education (Department) announces new policies and procedural requirements for the electronic submission of grant applications through the governmentwide grants application site, Grants.gov, and the Department's grants application site, e-Application.

FOR FURTHER INFORMATION CONTACT: For information on Grants.gov, call the Grants.gov Help Desk at 1-800-518-Grants. For information regarding the Department's e-Application System, call the GAPS Help Desk at 1-888-336-8936. For general questions about the new policies and requirements announced in this notice, contact Blanca Rodriguez or Charlesetta Griffin, U.S. Department of Education, 550 12th Street, SW., room 7107, Potomac Center Plaza, Washington, DC 20202-4250. Telephone: Blanca Rodriguez at 202-245-6121 or Charlesetta Griffin at 202-245-6157 or by e-mail: blanca.rodriguez@ed.gov or charlesetta.griffin@ed.gov.

If you use a telecommunications device for the deaf (TDD), you may call the Federal Relay Service at 1-800-877-8339.

Individuals with disabilities may obtain this document in an alternative format (e.g., Braille, large print, audiotape, or computer diskette) on request to the contact persons listed in this section.

SUPPLEMENTARY INFORMATION: This notice informs potential applicants for U.S. Department of Education grants of certain new policies and procedural requirements for the electronic submission of grant applications.

Transition to Grants.gov. For certain fiscal year (FY) 2005 grant competitions, the Department will require applicants to submit their applications electronically through Grants.gov instead of through the Department's e-Application system. Grants.gov is a unified Federal Web site that allows organizations (e.g., local educational agencies, state educational agencies, institutions of higher education, non-profit entities) and individuals to electronically find grant opportunities and apply for grants from all Federal grant-making agencies.

As a partner agency working on the development of Grants.gov, the Department is committed to using Grants.gov in helping potential grantees find grant opportunities (http://www.grants.gov/Find) and apply for grants (http://www.grants.gov/Apply). Currently, the Department posts synopses of all its discretionary grant funding opportunity announcements in the FIND section of Grants.gov. This year, the Department will also provide for applicants to submit electronic applications through the APPLY section of Grants.gov for selected grant programs.

You can immediately start searching the FIND section of Grants.gov, at the above Web address, for Federal grant opportunities. You can also register at the Web site to receive automatic e-mail notifications of new grant opportunities as they are posted.

To prepare to use the APPLY function of Grants.gov, we strongly recommend that you immediately initiate and complete the “Get Started” steps to register with Grants.gov at http://www.grants.gov/GetStarted. Although the steps can be completed within a few days in many cases, we strongly advise against waiting until a specific grant opportunity is announced before initiating the Grants.gov registration process to avoid facing unexpected delays that could result in the rejection of your application.

The Department does not intend to use the Grants.gov system for all of the Department's grant competitions. You must consult the Department's official grant application notice to determine the application procedures for each program. For those competitions accepting electronic applications, the official grant application notice will specify whether electronic applications are to be submitted through Grants.gov or the Department's e-Application system. The grant application notice is the final authority for this determination. However, the Department's Forecast of Funding Opportunities includes information on grant competitions that may use the APPLY function of Grants.gov this year. The Forecast may be accessed at http://www.ed.gov/fund/grant/find/edlite-forecast.html. It is important to note that if a competition is using the APPLY function of Grants.gov, it will not be using e-Application, and vice versa. Over the next several years, the Department plans to use the APPLY function of Grants.gov as the primary means for accepting electronic grant applications.

Exceptions to Mandatory Electronic Filing Requirement. We also announce a change in our policy and procedures for permitting applicants to submit paper applications in those competitions where the Department requires the electronic submission of applications through Grants.gov or e-Application. Under this new policy, when we require that applicants submit an application electronically through Grants.gov or e-Application, we will permit an exception to this requirement and will allow the submission of an application in paper format by mail or hand delivery only in two sets of circumstances. Specifically, an applicant will be permitted to submit an application in paper format by mail or hand delivery if the applicant—

(a) does not have access to the Internet; or

(b) does not have the capacity to upload large documents to the Department's e-Application system or the Grants.gov application system; and

(c) submits a written statement to the Department that the applicant qualifies for an exception under one of these grounds.

The written statement must be mailed or faxed to the program office (include the program name and CFDA number) no later than two weeks before the application deadline date (14 calendar days, or if the fourteenth calendar day falls on a Federal holiday, the next business day following the Federal holiday). A fax must be received by the Department on or before this date and an applicant should ensure that it retains a receipt of the faxed transmission. A mailed statement must be postmarked on or before this date and applicants should refer to the grant application notice for acceptable forms of proof of mailing. Unlike our prior policy, we will not accept requests for waiver of the electronic submission requirement up until the application deadline date.

If an applicant provides its statement on or before the two-week deadline, the Department will accept the statement and paper application and will not provide any response to the statement. If an applicant submits a paper application but fails to submit a statement or does not submit a statement in a timely manner, the Department will not accept the applicant's paper application. The Department will notify an applicant if it is not accepting the applicant's paper application.

Electronic Access to This Document: You may view this document, as well as all other Department of Education documents published in the Federal Register, in text or Adobe Portable Document Format (PDF) on the Internet at the following site: http://www.ed.gov/news/fedregister.

To use PDF, you must have Adobe Acrobat Reader, which is available free at this site. If you have questions about using PDF, call the U.S. Government Printing Office (GPO), toll free, at 1-888-293-6498; or in the Washington, DC area at (202) 512-1530.

Note: The official version of this document is the document published in the Federal Register. Free Internet access to the official edition of the Federal Register and the Code of Federal Regulations is available on GPO Access at: http://www.gpoaccess.gov/nara/index.html.

Dated: February 4, 2005.
Jack Martin,
Chief Financial Officer.

[FR Doc. 05-2600 Filed 2-9-05; 8:45 am]

BILLING CODE 4000-01-P